DEPARTMENT OF COMMERCE

Patent and Trademark Office

37 CFR Parts 1, 3, 5 and 11

[Docket No.: PTO-P-2013-0025]

RIN 0651-AC87

Extension of the Comment Period for Notice of Proposed Rulemaking on Changes To Implement the Hague Agreement Concerning International Registration of Industrial Designs

AGENCY: United States Patent and Trademark Office, Department of Commerce.

ACTION: Notice of extension of public comment period.

SUMMARY: The United States Patent and Trademark Office (“USPTO” or “Office”) published a notice of proposed rulemaking to change the rules of practice to implement Title I of the Patent Law Treaties Implementation Act of 2012 (“PLTIA”). Title I of the PLTIA amends the patent laws to implement the provisions of the 1999 Geneva Act of the Hague Agreement and is to take effect on the entry in force of the Hague Agreement with respect to the United States. On January 14, 2014, the Office conducted a public forum at the Alexandria, Virginia headquarters to discuss the proposed rules. The USPTO is extending the comment period in order to provide interested members of the public with additional time to submit written comments to the USPTO.

DATES: The comment deadline announced in the proposed rule published on November 29, 2013 (78 FR 71870) has been extended. To be ensured of consideration, written comments must be received on or before Tuesday, February 4, 2014.

ADDRESSES: Comments should be sent by electronic mail message over the Internet addressed to: AC87.comments@uspto.gov. Comments also may be submitted by postal mail addressed to: Mail Stop Comments—Patents, Commissioner for Patents, P.O. Box 1450, Alexandria, VA 22313-1450, marked to the attention of Boris Milef, Senior PCT Legal Examiner, Office of PCT Legal Administration.

Additionally, comments may be sent by electronic mail message over the Internet via the Federal eRulemaking Portal. See the Federal eRulemaking Portal Web site (http://www.regulations.gov) for additional instructions on providing comments via the Federal eRulemaking Portal.

Although comments may be submitted by postal mail, the Office prefers to receive comments by electronic mail message over the Internet because the Office may easily share such comments with the public. Electronic comments in plain text format are preferred, but electronic comments in ADOBE® portable document format or MICROSOFT WORD® format may be submitted. Comments not submitted electronically should be submitted on paper in a format that facilitates convenient digital scanning into ADOBE® portable document format.

Written comments will be available for public inspection at the Office of the Commissioner for Patents, currently located in Madison East, Tenth Floor, 600 Dulany Street, Alexandria, Virginia. Comments also will be available for viewing at http://www.uspto.gov and at http://www.regulations.gov. Because comments will be made available for public inspection, information that the submitter does not desire to make public, such as an address or phone number, should not be included in the comments.

FOR FURTHER INFORMATION CONTACT: David Gerk, Office of Policy and International Affairs, by phone 571-272-9300, by email at David.Gerk@uspto.gov or by mail addressed to: Mail Stop OPIA, United States Patent and Trademark Office, P.O. Box 1450, Alexandria, Virginia 22313-1450, ATTN: David Gerk.

SUPPLEMENTARY INFORMATION: The Office published proposed rules to change the rules of practice to implement Title I of the PLTIA. See Changes To Implement the Hague Agreement Concerning International Registration of Industrial Designs, 78 FR 71870 (Nov. 29, 2013). That notice of proposed rulemaking required public comments to be submitted to the Office by January 28, 2014. The Office now extends the comment deadline for the notice of proposed rulemaking to February 4, 2014, in order to provide the public with additional time to submit comments.

Dated: January 11, 2014.
Margaret A. Focarino,
Commissioner for Patents, Performing the functions and duties of the Under Secretary of Commerce for Intellectual Property and Director of the United States Patent and Trademark Office.

[FR Doc. 2014-00729 Filed 1-16-14; 8:45 am]

BILLING CODE 3510-16-P